DEPARTMENT OF THE INTERIOR

National Park Service

Notice of Intent to Repatriate a Cultural Item: U.S. Department of Defense, Army Corps of Engineers, Portland District, Portland, OR and University of Oregon Museum of Natural and Cultural History, Eugene, OR

AGENCY: National Park Service, Interior.

ACTION: Notice.

Notice is here given in accordance with the Native American Graves Protection and Repatriation Act (NAGPRA), 25 U.S.C. 3005, of the intent to repatriate a cultural item, for which the University of Oregon Museum of Natural and Cultural History, Eugene, OR, and U.S. Department of Defense, Army Corps of Engineers, Portland District, Portland, OR, have joint responsibility, that meets the definition of “unassociated funerary object” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1962, one cultural item was removed from site 45-KL-15, Klickitat County, WA, during excavations conducted by the University of Oregon prior to construction of the John Day Dam. The cultural item was accessioned by the University of Oregon Museum in 1962. The single unassociated funerary object is a copper bracelet.

The object was collected from the surface of an unidentified burial area associated with site 45-KL-15. No other materials were retrieved from this part of the site. Site 45-KL-15 consists of separate, severely-eroded and vandalized habitation and burial areas located along the now-inundated, north side shoreline of the Columbia River. Although no dates of occupation were obtained by the researchers, eyewitness accounts and cultural material observed in other portions of the site suggest the burial area was used during the late prehistoric through recent Historic times. The object appears to date from the Historic period. Excavation and museum documentation indicate that the copper bracelet is consistent with cultural items typically found in context with Columbia Plateau Native American burials characteristic of the Mid-Columbia River Basin.

Oral histories and published ethnographic documentation indicate that site 45-KL-15 is located within the traditional territory of Sahaptin-speaking groups represented by the present-day Confederated Tribes of the Warm Springs Reservation of Oregon and Confederated Tribes and Bands of the Yakama Nation, Washington. Per the 1855 Treaty with the Tribes of Middle Oregon, the Confederated Tribes of the Warm Springs Reservation of Oregon signers were comprised of three Chinookan-speaking Wasco bands and four Sahaptin-speaking Warm Springs bands. The Uto-Aztecan-speaking Northern Paiutes, also part of the Confederated Tribes of the Warm Springs Reservation of Oregon, joined the confederation in the 1870s. The Wasco and Warm Springs bands traditionally occupied the south shore of the Columbia River and its tributaries from Cascade Locks to just east of the present-day city of Arlington, OR. The 14 Sahaptin, Salish and Chinookan-speaking tribes and bands of the Confederated Tribes and Bands of the Yakama Nation, Washington traditionally lived on the Washington side of the Columbia River between the eastern flanks of the Cascade Range and the lower reaches of the Yakima River drainage.

Officials of the U.S. Army Corps of Engineers, Portland District have determined that, pursuant to 25 U.S.C. 3001 (3)(B), the cultural item described above is reasonably believed to have been placed with or near individual human remains at the time of death or later as part of the death rite or ceremony and is believed, by a preponderance of the evidence, to have been removed from a specific burial site of a Native American individual. Officials of the U.S. Army Corps of Engineers, Portland District have also determined that, pursuant to 25 U.S.C. 3001 (2), there is a relationship of shared group identity that can be reasonably traced between the unassociated funerary object and the Confederated Tribes of the Warm Springs Reservation of Oregon and/or Confederated Tribes and Bands of the Yakama Nation, Washington.

Representatives of any other Indian tribe that believes itself to be culturally affiliated with the unassociated funerary object should contact Daniel Mulligan, NAGPRA Coordinator, Environmental Resources Branch, U.S. Army Corps of Engineers, Portland District, P.O. Box 2946, Portland, OR 97208-2946, telephone (503) 808-4768, before December 5, 2008. Repatriation of the unassociated funerary object to the Confederated Tribes of the Warm Springs Reservation of Oregon and/or the Confederated Tribes and Bands of the Yakama Nation, Washington may proceed after that date if no additional claimants come forward.

The U.S. Army Corps of Engineers, Portland District is responsible for notifying the Confederated Tribes of the Warm Springs Reservation of Oregon and Confederated Tribes and Bands of the Yakama Nation, Washington that this notice has been published.

Dated: October 21, 2008.
Sherry Hutt,
Manager, National NAGPRA Program.

[FR Doc. E8-26349 Filed 11-4-08; 8:45 am]

BILLING CODE 4312-50-S